DEPARTMENT OF VETERANS AFFAIRS

[OMB Control No. 2900-New (HEC)]

Agency Information Collection (Health Eligibility Center (HEC) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before October 29, 2009.

ADDRESSES: Submit written comments on the collection of information through http://www.Regulations.gov; or to VA's OMB Desk Officer, OMB Human Resources and Housing Branch, New Executive Office Building, Room 10235, Washington, DC 20503 (202) 395-7316. Please refer to “OMB Control No. 2900-New (HEC)” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@mail.va.gov. Please refer to “OMB Control No. 2900-New (HEC).”

SUPPLEMENTARY INFORMATION: Titles:

a. Health Eligibility Center (HEC) Correspondence Satisfaction Letter, FL 10-491.

b. Customer Modality Satisfaction Survey, VA Form 10-0151.

OMB Control Number: 2900-New (HEC).

Type of Review: New collection.

Abstract: The HEC goal is to respond to Veterans correspondence, addressing their concerns in a concise and understandable manner. The correspondence letter will allow Veterans an opportunity to provide anonymous feedback on how well the HEC addressed their concerns. HEC will use Veterans feedback to improve the correspondence process. The Customer Modality Survey will be used to focus on how VA employees assess the needs of Veterans and outline internal processes to improve services prior to Veterans receiving care such as preregistration support and claim processing.

An agency may not conduct or sponsor, and a person is not required to respond to a collection of information unless it displays a currently valid OMB control number. The Federal Register Notice with a 60-day comment period soliciting comments on this collection of information was published on July 24, 2009, at page 36828.

Affected Public: Individuals and households.

Estimated Annual Burden:

a. VA FL 10-0151—11,551 hours.

b. VA Form 10-491—83,677 hours.

Estimated Average Burden per Respondent:

a. VA FL 10-0151—4.2 minutes.

b. VA Form 10-491—23 minutes.

Frequency of Response:

a. VA FL 10-0151—1.53.

b. VA Form 10-491—1.9.

Estimated Number of Respondents:

a. VA FL 10-0151—107,851.

b. VA Form 10-491—114,889.

Total Annual Responses:

a. VA FL 10-0151—165,012.

b. VA Form 10-491—218,289.

Dated: September 24, 2009.
By direction of the Secretary.
Denise McLamb,
Program Analyst, Enterprise Records Service.

[FR Doc. E9-23413 Filed 9-28-09; 8:45 am]

BILLING CODE 8320-01-P